DEPARTMENT OF ENERGY

Federal Energy Regulatory Commission

[Docket No. RM05-32-000]

Repeal of the Public Utility Holding Company Act of 1935 and Enactment of the Public Utility Holding Company Act of 2005; Notice of New Docket Prefixes “HC” and “PH”

January 13, 2006.

Notice is hereby given that new docket prefixes “HC” and “PH” have been established for certain filings under the Public Utility Holding Company Act of 2005.

An “HC” docket prefix will be assigned to filings that, pursuant to 18 CFR 366.4(a), notify the Commission that a company meets the definition of a holding company. Thus, an “HC” docket prefix will be assigned to FERC-65 filings, “Notification of Holding Company Status.”

A “PH” docket prefix will be assigned to filings that, pursuant to 18 CFR 366.4(b)(1), (c)(1), seek exemption from the requirements of the Public Utility Holding Company Act of 2005, or waiver of the Commission's regulations under the Public Utility Holding Company Act of 2005. Thus, a “PH” docket prefix will be assigned to FERC-65A filings, “Exemption Notification,” and to FERC-65B filings, “Waiver Notification.”

Petitions for declaratory order made pursuant to 18 CFR 366.4(b)(2), (c)(2), however, will be assigned an “EL” docket prefix, as the Commission has traditionally done for petitions for declaratory orders under the Federal Power Act.

The “HC” and “PH” docket prefix formats will be HCFY-NNN-000 and PHFY-NNN-000, where “FY” is the fiscal year in which the proceeding commenced, and “NNN” is a sequential number. For “HC” filings, a single docket number will be assigned to all Notification of Holding Company Status filings made within a fiscal year. For example, “HC06-1-000” will be assigned to all such filings made in fiscal year 2006; “HC07-1-000” to all such filings made in fiscal year 2007. “PH” filings, however, will be docketed individually.

Filing guidelines for “HC” and “PH” filings are attached to this notice and will be posted on the Commission's Web site at http://www.ferc.gov/help/how-to.asp.

Magalie R. Salas,
Secretary.

Filing Guidelines for “HC” and “PH” Filings Under the Public Utility Holding Company Act of 2005 and 18 CFR 366

FERC-65, Notification of Holding Company Status

These notification filings should be submitted using the Commission's eFiling system. Do not include waiver or exemption notifications with these filings. The document you submit should include HC06-1-000 in the caption or heading of the document, for filings made on or before September 30, 2006. During the eFiling submission process:

1. Select the filing type “Production of Document.”

2. On the Select Docket screen, enter HC06-1 in the docket number search block and select HC06-1-000 from the results.

3. Before you browse, select, and attach the file, make sure that the file name is less than 25 characters and contains no spaces or special characters.

4. On the Submission Description screen, edit the description by replacing “Production of Document” with “Notification of Holding Company Status.”

If you are unable to file electronically, you must submit an original and 14 paper copies of the filing to the address below. It is not necessary to include a form of notice for the Federal Register.

FERC-65A, Exemption Notification, and FERC-65B, Waiver Notification

These filings must be submitted on paper at this time. The document you submit should include PH06-__-000 in the caption or heading of the document, for filings made on or before September 30, 2006.

Submit an original and 14 copies of all “PH” filings, with a form of notice of the “PH” filing suitable for publication in the Federal Register on a 3½” diskette, to: Magalie R. Salas, Secretary, Federal Energy Regulatory Commission, 888 First Street, NE., Washington, DC 20426.

Forms of notice for “PH” exemption and waiver requests are available on the Commission's Web site at http://www.ferc.gov/docs-filing/not-form.asp.

Please be advised that the United States Postal Service scans all documents addressed to the Commission with a heat-treatment process that may corrupt diskettes and render filings unusable. You are recommended to use express mail or courier delivery services.

[FR Doc. E6-608 Filed 1-19-06; 8:45 am]

BILLING CODE 6717-01-P